SOCIAL SECURITY ADMINISTRATION

Agency Information Collection Activities: Proposed Request and Comment Request

The Social Security Administration (SSA) publishes a list of information collection packages that require clearance by the Office of Management and Budget (OMB) in compliance with Public Law 104-13, the Paperwork Reduction Act of 1995, effective October 1, 1995. The information collection packages included in this notice are for extensions of and revisions to OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or e-mailed to the individuals at the addresses and fax numbers listed below:

(OMB),

Office of Management and Budget, Attn: Desk Officer for SSA, Fax: 202-395-6974, E-mail address: OIRA_Submission@omb.eop.gov.

(SSA),

Social Security Administration, DCBFM, Attn: Reports Clearance Officer, 1333 Annex Building, 6401 Security Blvd., Baltimore, MD 21235, Fax: 410-965-6400, E-mail address: OPLM.RCO@ssa.gov.

The information collections listed below are pending at SSA and will be submitted to OMB within 60 days from the date of this notice. Therefore, your comments should be submitted to SSA within 60 days from the date of this publication. You can obtain copies of the collection instruments by e-mailing the Reports Clearance Officer at oplm.rco@ssa.gov.

1. Application for Help with Medicare Prescription Drug Plan Costs—20 CFR 418.3101—0960-0696. Medicare Part D, codified in 20 CFR 418, provides voluntary prescription drug coverage of premium, deductible, and co-payment costs for certain low-income individuals. As per 20 CFR 418.3101, beneficiaries who meet eligibility criteria may receive help with these Medicare Part D costs. The Social Security Administration, which helps to administer the subsidy program, uses form SSA-1020 (the Application for Help with Medicare Prescription Drug Plan Costs) and its online equivalent, the i1020, to collect information that will be used to make Medicare Part D subsidy determinations. The respondents are eligible beneficiaries who want to apply for help with Medicare Part D costs.

Type of Request: Revision of an OMB-approved information collection.

| Number of respondents | Frequency of response | Average burden per response (minutes) | Estimated annual burden (hours)
SSA-1020 (paper application form) | 2,545,716 | 1 | 35 | 1,485,001
i1020 (online equivalent) | 380,394 | 1 | 45 | 285,296
Totals | 2,926,110 |  |  | 1,770,297

2. Appeal of Determination for Help with Medicare Prescription Drug Plan Costs—0960-0695. The Medicare Prescription Drug, Improvement, and Modernization Act of 2003 (Pub. L. 108-173; MMA) established a new Medicare Part D program for voluntary prescription drug coverage for premium, deductible and cost-sharing subsidies for certain low-income individuals. The MMA stipulates that subsidies must be available for individuals who are eligible for the program and who meet eligibility criteria for help with premium, deductible, and/or co-payment costs. Form SSA-1021, the Appeal of Determination for Help with Medicare Prescription Drug Plan Costs, was developed to obtain information from individuals who appeal SSA's decisions regarding eligibility or continuing eligibility for a Medicare Part D subsidy. The respondents are applicants who are appealing SSA's eligibility or continuing eligibility decisions.

Type of Request: Extension of an OMB-approved information collection.

Number of Respondents: 75,000.

Frequency of Response: 1.

Average Burden Per Response: 10 minutes.

Estimated Annual Burden: 12,500 hours.

The information collections listed below have been submitted to OMB for clearance. Your comments on the information collections would be most useful if received by OMB and SSA within 30 days from the date of this publication. You can obtain a copy of the OMB clearance packages by emailing OPLM.RCO@ssa.gov.

1. Correction Notice: This 30-day Federal Register Notice published on August 10, 2007, at 72 FR 45079. At the time, we inadvertently omitted two notices which are part of this collection. The revised burden chart below now contains these notices.

Medicare Quality Review Forms—20 CFR 418(b)(5)—0960-0707. The Social Security Administration (SSA) uses the Medicare Quality Review Forms collection to verify the information reported on Medicare Part D Subsidy applications (OMB No. 0960-0696) for a selected number of applicants. SSA is planning to expand the scope of this collection by conducting Quality Reviews with some current recipients of Medicare Part D subsidies who have recently undergone the redetermination process (OMB No. 0960-0723). This ICR is for two new appointment letters (forms SSA-9313 and SSA-9314) that such beneficiaries will complete to schedule an appointment for their Quality Review. The respondents are current recipients of Medicare Part D subsidies who have recently undergone a redetermination and who were selected for a Quality Review.

Type of Request: Revision to an existing OMB-approved information collection.

Form No. and name | Number of respondents | Frequency of response | Average burden per response (minutes) | Estimated annual burden (hours)
SSA-9301 (Medicare Subsidy Quality Review Case Analysis Questionnaire) | 10,000 | 1 | 35 | 5,833
SSA-9302 (Notice of Quality Review Acknowledgement Form for those with Phones) | 10,000 | 1 | 15 | 2,500
SSA-9303 (Notice of Quality Review Acknowledgement Form for those without Phones) | 1,000 | 1 | 15 | 250
SSA-9304 (Checklist of Required Information; burden accounted for with forms SSA-9302, SSA-9303) |  |  |  |
SSA-9308 (Request for Information) | 20,000 | 1 | 15 | 5,000
SSA-9310 (Request for Documents) | 10,000 | 1 | 5 | 833
SSA-9309 (Life Insurance Verification Form) | 8,000 | 1 | 15 | 2,000
SSA-9311 (Notice of Appointment—Denial—Reviewer Will Call) | 450 | 1 | 15 | 113
SSA-9312 (Notice of Appointment—Denial—Please Call Reviewer) | 50 | 1 | 15 | 13
SSA-8510 (Authorization to the Social Security Administration to Obtain Personal Information) | 10,000 | 1 | 5 | 833
SSA-9313 (Notice of Appointment Quality Review Acknowledgement Form)* | 4,500 | 1 | 15 | 1,125
SSA-9314 (Notice of Quality Review Acknowledgement Form (unknown phone numbers)* | 500 | 1 | 15 | 125
Total |  |  |  | 18,625
* These are the two new forms being cleared in the current ICR for this collection.

2. Correction Notice: This 30-day notice published on August 7, 2007, at 72 FR 44211. It has since been decided to allow other types of respondents (other third-parties besides representatives) to use this form. Revised burden information is provided below.

Electronic Records Express Third-Party Registration Form—0960-NEW. ERE (Electronic Records Express) is an online system which enables medical providers and various third parties to submit disability claimant information electronically to SSA as part of the disability application process. Third parties who wish to use this system must complete a unique registration process so the Agency can ensure they are authorized to access a claimant's electronic disability folder. This request is for the Third-Party Registration Form. The respondents are third-party representatives of disability applicants or recipients who want to use ERE to electronically access beneficiary folders and submit information to SSA.

Type of Request: New information collection.

Number of Respondents: 78,344.

Frequency of Response: 1.

Average Burden per Response: 3 minutes.

Estimated Annual Burden: 3,917 hours.

Dated: September 10, 2007.
Elizabeth A. Davidson,
Reports Clearance Officer, Social Security Administration.

[FR Doc. E7-18104 Filed 9-13-07; 8:45 am]

BILLING CODE 4191-02-P